Proclamation 9823 of November 9, 2018

American Education Week, 2018

By the President of the United States of America

A Proclamation

During American Education Week, we reaffirm our commitment to ensuring that all Americans have access to an affordable, high-quality education. We also recognize the hard work of our Nation's dedicated parents, guardians, teachers, and school leaders to ensure that every child is prepared to join today's growing workforce. To maintain our country's competitiveness, our students deserve a good education that empowers them with the knowledge, skills, and character necessary to reach their full potential.

Education is a lifelong process of learning and discovery that begins at home. Parents are a child's first teacher. By actively engaging with educators, mentors, coaches, faith leaders, and community members, parents are best equipped to shape their child's education. My Administration has worked to empower States and local communities with greater control and flexibility over their schools. We are also protecting and expanding parents' access to a wide range of high-quality educational choices, including effective public, charter, magnet, private, parochial, online, and homeschool options.

Each student is unique, with their own distinct experiences, needs, learning styles, and dreams. Thus, education must be customized and individualized as there is no single approach to education that works for every student. My Administration encourages parents, guardians, educators, and school leaders to rethink the way students learn in America to ensure that every American receives a high-quality education that meets their needs. We empower teachers to create learning environments that are challenging, relevant, and engaging. When families are free to choose where and how their children learn, and when teachers are free to do their best work, students are able to grow and explore their talents and passions.

High-quality education also paves the way for a thriving workforce in America. My Administration acknowledges that our economy requires dynamic approaches to education and workforce development. Today's students will enter an economy that is stronger than ever before. With consumer confidence at a record high and unemployment at the lowest rate in almost 50 years, bringing our workforce development efforts into the 21st century is exceedingly critical. In July, I established the President's National Council for the American Worker and the American Workforce Policy Advisory Board to harness the expertise of the education and business communities, and to allow private- and public-sector collaboration to resolve pressing issues related to workforce development. Additionally, I was pleased to sign a reauthorization of the Carl D. Perkins Career and Technical Education Act. This legislation increases access to programs that will help provide students with the skills they need to succeed in our 21st century economy while enabling more flexibility for States to meet the unique needs of their students, educators, and employers. My Administration is committed to ensuring that America's students and workers have access to education and job training that will equip them to compete and win in the global economy.

This week, we are reminded of our great responsibility to empower our Nation's students to develop the skills needed to pursue meaningful careers. We must continue our efforts to expand freedom and opportunity in education, with the knowledge that our country's future relies on today's students.

NOW, THEREFORE, I, DONALD J. TRUMP, President of the United States of America, by virtue of the authority vested in me by the Constitution and the laws of the United States, do hereby proclaim November 11 through November 17, 2018, as American Education Week. I commend our Nation's schools, their teachers and leaders, and the parents of students across this land. And I call on States and communities to support high-quality education to meet the needs of all students.

IN WITNESS WHEREOF, I have hereunto set my hand this ninth day of November, in the year of our Lord two thousand eighteen, and of the Independence of the United States of America the two hundred and forty-third.

[FR Doc. 2018-25122

Filed 11-14-18; 11:15 am]

Billing code 3295-F9-P